LIBRARY OF CONGRESS

U.S. Copyright Office

37 CFR Part 210

[Docket No. 2012-7]

Technical Amendments to Mechanical and Digital Phonorecord Delivery Compulsory License

AGENCY: U.S. Copyright Office, Library of Congress.

ACTION: Final rule; correction.

SUMMARY: The United States Copyright Office published in the Federal Register of September 18, 2014, a final rule implementing section 115(c)(5) of the Copyright Act of 1976, title 17 of the United States Code and prescribing by regulation the procedures for the monthly payment of royalties and preparation and service of monthly and annual statements of account by licensees pursuant to the Section 115 compulsory license for the making and distribution of phonorecords of nondramatic musical works. This document makes technical corrections to that final rule.

DATES: Effective on November 17, 2014.

FOR FURTHER INFORMATION CONTACT: Sarang V. Damle, Special Advisor to the General Counsel by email at sdam@loc.gov, Stephen Ruwe, Attorney-Advisor, Office of the General Counsel, or Rick Marshall, Attorney-Advisor, Office of the General Counsel, at the U.S. Copyright Office, P.O. Box 70400, Washington, DC 20024. Telephone: (202) 707-8350.

SUPPLEMENTARY INFORMATION: The United States Copyright Office published a final rule in the Federal Register of September 18, 2014 (79 FR 56190), which prescribed by regulation the procedures for the monthly payment of royalties and preparation and service of monthly and annual statements of account by licensees pursuant to the Section 115 compulsory license for the making and distribution of phonorecords of nondramatic musical works. The final rule updated the existing payment and statement-of-account regulations in response to legal and marketplace developments, including the Copyright Royalty Board's adoption of newer percentage-of-revenue royalty rate structures for certain digital music services, and changes in accounting and industry practice in the years since the rules were last substantially amended.

This document corrects two inadvertent errors contained in the regulations set forth in the final rule. First, section 210.16, paragraph (c)(1)(vi), included an incorrect cross-reference to paragraph “(a)(3),” which does not exist. This incorrect reference is removed and replaced with a reference to paragraph “(c)(3).” Second, section 210.17, paragraph (h), included a clerical error that would have required copyright owners to request annual statements of account that they had not received for fiscal years ending after March 1, 2009 and before November 17, 2014, before the effective date of the regulations. This error is corrected to reflect the Office's intent to permit copyright owners to make such a request at any time within 6 months of the effective date of the regulations.

Accordingly, in the final rule FR Doc. 2014-22235 published on September 18, 2014 (79 FR 56190), the Office makes the following corrections:

1. On page 56209, in the third column, § 210.16(c)(1)(vi) is corrected to read as follows:

§ 210.16 Monthly statements of account.

* * * * *

(c) * * *

(1) * * *

(vi) The phonorecord identification information required by paragraph (c)(3) of this section.

* * * * *

2. On page 56215, in the second column, § 210.17(h) is corrected to read as follows:

§ 210.17 Annual statements of account.

* * * * *

(h) Annual Statements for periods before the effective date of this regulation. If a copyright owner did not receive an Annual Statement of Account from a compulsory licensee for any fiscal year ending after March 1, 2009 and before November 17, 2014, the copyright owner may, at any time before May 17, 2015, make a request in writing to that compulsory licensee requesting an Annual Statement of Account for the relevant fiscal year conforming to the requirements of this section. If such a request is made, the compulsory licensee shall provide the Annual Statement of Account within 6 months after receiving the request. If such a circumstance and request applies to more than one of the compulsory licensee's fiscal years, such years may be combined on a single statement.

Dated: October 1, 2014.
Maria A. Pallante,
Register of Copyrights.
James H. Billington,
Librarian of Congress.

[FR Doc. 2014-24175 Filed 10-8-14; 8:45 am]

BILLING CODE 1410-30-P